DEPARTMENT OF JUSTICE

Drug Enforcement Administration

[Docket No. DEA-392]

Importer of Controlled Substances Application: United States Pharmacopeial Convention

ACTION: Notice of application.

DATES: Registered bulk manufacturers of the affected basic classes, and applicants therefore, may file written comments on or objections to the issuance of the proposed registration in accordance with 21 CFR 1301.34(a) on or before September 19, 2014. Such persons may also file a written request for a hearing on the application pursuant to 21 CFR 1301.43 on or before September 19, 2014.

ADDRESSES: Written comments should be sent to: Drug Enforcement Administration, Attention: DEA Federal Register Representative/ODW, 8701 Morrissette Drive, Springfield, Virginia 22152.

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of importers, of controlled substances (other than final orders in connection with suspension, denial, or revocation of registration) has been redelegated to the Deputy Assistant Administrator of the DEA Office of Diversion Control (“Deputy Assistant Administrator”) pursuant to section 7 of 28 CFR pt. 0, subpt. R, App.

In accordance with 21 CFR 1301.34(a), this is notice that on February 10, 2014, United States Pharmacopeial Convention, 12601 Twinbrook Parkway, Rockville, Maryland 20852, applied to be registered as an importer of the following basic classes of controlled substances:

Controlled substance | Schedule
Cathinone (1235) | I
Methaqualone (2565) | I
Lysergic acid diethylamide (7315) | I
Marihuana (7360) | I
Tetrahydrocannabinols (7370) | I
4-Methyl-2,5-dimethoxyamphetamine (7395) | I
3,4-Methylenedioxyamphetamine (7400) | I
Codeine-N-oxide (9053) | I
Difenoxin (9168) | I
Heroin (9200) | I
Morphine-N-oxide (9307) | I
Norlevorphanol (9634) | I
Amphetamine (1100) | II
Methamphetamine (1105) | II
Phenmetrazine (1631) | II
Methylphenidate (1724) | II
Amobarbital (2125) | II
Pentobarbital (2270) | II
Secobarbital (2315) | II
Glutethimide (2550) | II
Phencyclidine (7471) | II
4-Anilino-N-phenethyl-4-piperidine (8333) | II
Phenylacetone (8501) | II
Alphaprodine (9010) | II
Anileridine (9020) | II
Cocaine (9041) | II
Codeine (9050) | II
Dihydrocodeine (9120) | II
Oxycodone (9143) | II
Hydromorphone (9150) | II
Diphenoxylate (9170) | II
Hydrocodone (9193) | II
Levomethorphan (9210) | II
Levorphanol (9220) | II
Meperidine (9230) | II
Methadone (9250) | II
Dextropropoxyphene, bulk (non-dosage forms) (9273) | II
Morphine (9300) | II
Thebaine (9333) | II
Oxymorphone (9652) | II
Noroxymorphone (9668) | II
Alfentanil (9737) | II
Sufentanil (9740) | II

The company plans to import reference standards for sale to researchers and analytical labs.

The company plans to import the listed controlled substances in bulk powder form from foreign sources for the manufacture of analytical reference standards for sale to their customers.

Dated: August 11, 2014.
Joseph T. Rannazzisi,
Deputy Assistant Administrator.

[FR Doc. 2014-19775 Filed 8-19-14; 8:45 am]

BILLING CODE 4410-09-P